SMALL BUSINESS ADMINISTRATION

[Disaster Declaration #20902 and #20903; PUERTO RICO Disaster Number PR-20003]

Presidential Declaration of a Major Disaster for Public Assistance Only for the Commonwealth of Puerto Rico

AGENCY: U.S. Small Business Administration.

ACTION: Notice.

SUMMARY: This is a Notice of the Presidential declaration of a major disaster for Public Assistance Only for the Commonwealth of Puerto Rico (FEMA-4850-DR), dated November 27, 2024.

Incident: Tropical Storm Ernesto.

DATES: Issued on November 27, 2024.

Incident Period: August 13, 2024 through August 16, 2024.

Physical Loan Application Deadline Date: January 27, 2025.

Economic Injury (EIDL) Loan Application Deadline Date: August 27, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on November 27, 2024, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary Municipalities: Aibonito, Anasco, Aguas Buenas, Barranquitas, Canovanas, Ceiba, Coamo, Comerio, Corozal, Hormigueros, Jayuya, Las Marias, Loiza, Manati, Maricao, Maunabo, Mayaguez, Naguabo, Orocovis, San Lorenzo, San Sebastian, Santa Isabel, Vega Alta, Vieques, Villalba, Yabucoa.

The Interest Rates are:

| Percent
For Physical Damage:
Non-Profit Organizations with Credit Available Elsewhere | 3.250
Non-Profit Organizations without Credit Available Elsewhere | 3.250
For Economic Injury:
Non-Profit Organizations without Credit Available Elsewhere | 3.250

The number assigned to this disaster for physical damage is 20902B and for economic injury is 209030.

(Catalog of Federal Domestic Assistance Number 59008)

Alejandro Contreras,
Acting Deputy Associate Administrator, Office of Disaster Recovery & Resilience.

[FR Doc. 2024-28565 Filed 12-5-24; 8:45 am]

BILLING CODE 8026-09-P